DEPARTMENT OF THE INTERIOR

Geological Survey

[USGS GX12EB00A184000 ]

Agency Information Collection Activities: The William T. Pecora Award Application and Nomination Process

AGENCY: U.S. Geological Survey (USGS), Interior.

ACTION: Notice of establishing a new information collection (1028-NEW).

SUMMARY: To comply with the Paperwork Reduction Act of 1995 (PRA), we are notifying the public that we have submitted to the Office of Management and Budget (OMB) an information collection request (ICR) for the collection of nominations for the William T. Pecora Award. As part of our continuing efforts to reduce paperwork and respondent burden, we invite the general public and other Federal agencies to comment on this ICR. We may not conduct or sponsor and a person is not required to respond to a collection unless it displays a currently valid Office of Management and Budget (OMB) control number. DATE: Submit written comments by December 9, 2011.

ADDRESSES: Please submit written comments on this information collection directly to the Office of Management and Budget (OMB) Office of Information and Regulatory Affairs, Attention: Desk Officer for the Department of the Interior via email to OIRA_DOCKET@omb.eop.gov or fax at (202) 395-5806; and identify your submission as 1028-NEW, William T. Pecora Award. Please also submit a copy of your written comments to the USGS Information Collections Officer, U.S. Geological Survey, 12201 Sunrise Valley Drive Mail Stop 807, Reston, VA 20192 (mail); (703) 648-6853 (fax); or smbaloch@usgs.gov (email). Please reference Information Collection 1028-NEW, William T. Pecora Award in the subject line.

FOR FURTHER INFORMATION CONTACT: To request additional information about this ICR, please contact the U.S. Geological Survey, Tina Pruett, MS-517, 12201 Sunrise Valley Dr. Reston, VA 20192 (mail), by telephone (703) 648-4585, or tpruett@usgs.gov (email).

SUPPLEMENTARY INFORMATION:

Abstract: The William T. Pecora Award is presented annually to individuals or groups that make outstanding contributions toward understanding the earth by means of remote sensing. The award is sponsored jointly by the Department of the Interior (DOI) and the National Aeronautics and Space Administration (NASA).

In 1974 the Pecora award was established in honor of Dr. William T. Pecora, former Director of the U.S. Geological Survey, Under Secretary, Department of the Interior and a motivating force behind the establishment of a program for civil remote sensing of the earth from space. The purpose of the award is to recognize individuals or groups working in the field of remote sensing of the earth. National and international nominations are accepted from the public and private sector individuals, teams, organizations, and professional societies.

Nomination packages include three sections: (A) Cover Sheet, (B) Summary Statement, and (C) Supplemental Materials. The cover sheet includes professional contact information. The Summary Statement is limited to two pages and describes the nominee's achievements in the scientific and technical remote sensing community, contributions leading to successful practical applications of remote sensing, and/or major breakthroughs in remote sensing science or technology. Nominations may include up to 10 pages of supplemental information such as resume, publications list, and/or letters of endorsement.

The award consists of a citation and plaque, which are presented to the recipient at an appropriate public forum by the Secretary of the Interior and the NASA Administrator or their representatives. The name of the recipient is also inscribed on permanent plaques, which are displayed by the sponsoring agencies.

II. Data

OMB Control Number: 1028-New.

Title: The William T. Pecora Award Application and Nomination Process.

Type of Request: This is a new request.

Affected Public: Individuals or households; businesses and other academic and non-profit institutions; State, local and tribal governments.

Respondent Obligation: Voluntary.

Frequency of Collection. Annually.

Estimated Number Annual Respondents: 20.

Annual Burden Hours: 200 hours. We estimate the public reporting burden averages 10 hours per response.

Estimated Reporting and Recordkeeping “Non-Hour Cost” Burden: We have not identified any “non-hour cost” burdens associated with this collection of information.

III. Request for Comments

On August 16, 2011, we published a Federal Register notice (76 FR 50753) announcing that we would submit this ICR to OMB for approval and soliciting comments. The comment period closed on October 17, 2011. We did not receive any comments in response to that notice.

We again invite comments concerning this ICR on: (a) Whether the proposed collection of information is necessary for the agency to perform its duties, including whether the information will have practical utility; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, email address, or other personal identifying information in your comment, you should be aware that your entire comment, including your personal identifying information, may be made publicly available at anytime. While you can ask OMB in your comment to withhold your personal identifying information from public review, we cannot guarantee that it will be done.

Dated: November 1, 2011.
Bruce Quirk,
Program Coordinator, Land Remote Sensing Program, U.S. Geological Survey.

[FR Doc. 2011-28973 Filed 11-8-11; 8:45 am]

BILLING CODE 4311-AM-P